DEPARTMENT OF TRANSPORTATION

Federal Aviation Administration

14 CFR Part 39

[Docket No. FAA-2005-22588; Directorate Identifier 2005-NM-096-AD; Amendment 39-14317; AD 2005-20-21]

RIN 2120-AA64

Airworthiness Directives; Fokker Model F27 Mark 050 Airplanes

AGENCY: Federal Aviation Administration (FAA), Department of Transportation (DOT).

ACTION: Final rule; request for comments.

SUMMARY: The FAA is adopting a new airworthiness directive (AD) for certain Fokker Model F27 Mark 050 airplanes. This AD requires repetitive visual checks for oil leaks of both engines between the spinner and the engine cowling, and directly behind the heated intake lip of the engine; repetitive inspections for oil leaks at the feathering pump on both engines; and corrective actions if necessary. This AD results from reports of oil leakage at the engine feathering pump. We are issuing this AD to prevent oil loss from the feathering pump, which could cause the engine to shut down in flight.

DATES: This AD becomes effective October 21, 2005.

The Director of the Federal Register approved the incorporation by reference of certain publications listed in the AD as of October 21, 2005.

We must receive comments on this AD by December 5, 2005.

ADDRESSES: Use one of the following addresses to submit comments on this AD.

• DOT Docket Web site: Go to http://dms.dot.gov and follow the instructions for sending your comments electronically.

• Government-Wide Rulemaking Web Site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Fokker Services B.V., P.O. Box 231, 2150 AE Nieuw-Vennep, the Netherlands, for service information identified in this AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Discussion

The Civil Aviation Authority—The Netherlands (CAA-NL), which is the airworthiness authority for the Netherlands, notified us that an unsafe condition may exist on certain Fokker Model F27 Mark 050 airplanes. The CAA-NL advises that a number of in-flight engine shut-downs have been reported on Fokker Model F27 Mark 050 airplanes. The shut-downs were caused by oil leakage at the engine feathering pump, which resulted from a damaged seal on one of the bobbins between the feathering pump and the engine reduction gearbox. The CAA-NL mandated several actions to prevent recurrence of the leakage. Since those actions were mandated, several operators have found oil leaks at the feathering pumps. Most of these leaks were discovered during pre-flight or overnight checks. Investigators have not identified the cause of the new leaks. Oil loss from the feathering pump, if not corrected, could cause the engine to shut down in flight.

Relevant Service Information

Fokker Services B.V. has issued All Operator Message (AOM) AOF50.037 (Ref TS04.57535), dated November 2, 2004. The AOM describes procedures for doing an external visual inspection for oil leaks before each take-off. The inspections are to be done in two specific areas of both engines: Between the spinner and the engine cowling, and directly behind the heated intake lip of the engine. The AOM states that either the flightcrew or the maintenance crew can perform this inspection. If any leak is found, the AOM specifies that further inspections are necessary before further flight, in accordance with the Fokker service bulletin described below. The AOM also states that operators should report cases of oil leakage and send failed O-rings to Fokker Services.

Fokker Services B.V. has also issued Service Bulletin SBF50-61-023, dated November 3, 2004. The service bulletin describes procedures for repetitive detailed inspections for oil leaks at the feathering pump on both engines. If any leak is found, the service bulletin provides procedures for the corrective actions of replacing the O-rings of the feathering pump bobbins and the mounting pad gasket (if installed) with new parts.

The CAA-NL mandated the service information and issued Dutch airworthiness directive 2004-129, dated November 3, 2004, to ensure the continued airworthiness of these airplanes in the Netherlands.

FAA's Determination and Requirements of This AD

This airplane model is manufactured in the Netherlands and is type certificated for operation in the United States under the provisions of section 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that we need to issue an AD for products of this type design that are certificated for operation in the United States.

Therefore, we are issuing this AD to prevent oil loss from the feathering pump, which could cause the engine to shut down in flight. This AD requires accomplishing the actions specified in the service information described previously.

Interim Action

We consider this AD interim action. If final action is later identified, we may consider further rulemaking then.

Clarification of Inspections

Although the Dutch airworthiness directive specifies visually inspecting for oil leaks, this AD refers to that inspection as a “visual check.” We have determined that pilots may properly perform these visual checks because the checks do not require tools, precision measuring equipment, training, or pilot logbook endorsements, or the use of or reference to technical data that are not contained in the body of the AD.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

The following table provides the estimated costs to comply with this AD for any affected airplane that might be imported and placed on the U.S. Register in the future.

Estimated Costs
Action | Work hours | Average labor rate per hour | Cost per airplane
Pre-flight check, per cycle | 1 | $65 | $65, per cycle.
Detailed inspection, per inspection cycle | 1 | 65 | 65, per inspection cycle.

Changes to 14 CFR Part 39/Effect on the AD Relating to Special Flight Permits

On July 10, 2002, we issued a new version of 14 CFR part 39 (67 FR 47997, July 22, 2002), which governs the FAA's airworthiness directives system. The regulation now includes material that relates to altered products, special flight permits, and alternative methods of compliance (AMOC). This material is included in part 39, except that the office authorized to approve AMOCs is identified in each individual AD. However, as amended, part 39 provides for the FAA to add special requirements for operating an airplane to a repair facility to do the work required by an airworthiness directive. For purposes of this AD, we have determined that such a special flight permit is prohibited.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to an address listed in the ADDRESSES section. Include “Docket No. FAA-2005-22588; Directorate Identifier 2005-NM-096-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-20-21 Fokker Services B.V.: Amendment 39-14317. Docket No. FAA-2005-22588; Directorate Identifier 2005-NM-096-AD.

Effective Date

(a) This AD becomes effective October 21, 2005.

Affected ADs

(b) None.

Applicability

(c) This AD applies to Fokker Model F27 Mark 050 airplanes, certificated in any category, as identified in Fokker Service Bulletin SBF50-61-023, dated November 3, 2004.

Unsafe Condition

(d) This AD results from reports of oil leakage at the engine feathering pump. We are issuing this AD to prevent oil loss from the feathering pump, which could cause the engine to shut down in flight.

Compliance

(e) You are responsible for having the actions required by this AD performed within the compliance times specified, unless the actions have already been done.

Pre-Flight Checks

(f) Before the next flight after the effective date of this AD: Do a visual check for oil leaks between the spinner and the engine cowling, and from directly behind the heated intake lip, of both engines, in accordance with Fokker All Operator Message (AOM) AOF50.037 (Ref TS04.57535), dated November 2, 2004. Repeat the visual check thereafter before each flight. If any leak is found, before further flight, do the action in paragraph (g) of this AD.

Repetitive Detailed Inspections

(g) Except as required by paragraph (f) of this AD, at the applicable time in paragraph (g)(1) or (g)(2) of this AD: Do a detailed inspection for oil leaks at the feathering pump on both engines and do any applicable corrective action before further flight. Do all actions in accordance with the Accomplishment Instructions of Fokker Service Bulletin SBF50-61-023, dated November 3, 2004. Repeat the detailed inspection thereafter at the applicable interval in paragraph (g)(1) or (g)(2) of this AD.

(1) For airplanes identified in paragraph 1.A. “Effectivity,” sub-paragraph (1) of the service bulletin: Do the first inspection before the next flight after the effective date of this AD, and repeat the inspection thereafter before each flight.

(2) For airplanes identified in paragraph 1.A. “Effectivity,” sub-paragraph (2) of the service bulletin: Do the first inspection within 32 flight hours after the effective date of this AD, and repeat the inspection thereafter at intervals not to exceed 32 flight hours.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

No Reporting Requirement

(h) Although Fokker AOM AOF50.037 (Ref TS04.57535), dated November 2, 2004, specifies that operators should report cases of oil leakage and send failed O-rings to Fokker Services B.V., this AD does not include that requirement.

Special Flight Permit

(i) Special flight permits (14 CFR 21.197 and 21.199) are not allowed.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) Dutch airworthiness directive 2004-129, dated November 3, 2004, also addresses the subject of this AD.

Material Incorporated by Reference

(l) You must use Fokker All Operator Message AOF50.037 (Ref TS04.57535), dated November 2, 2004; and Fokker Service Bulletin SBF50-61-023, dated November 3, 2004; as applicable, to perform the actions that are required by this AD, unless the AD specifies otherwise. (Only page 1 of Fokker All Operator Message AOF50.037 (Ref TS04.57535), contains the issue date of the document; no other page of the document contains this information.) The Director of the Federal Register approved the incorporation by reference of these documents in accordance with 5 U.S.C. 552(a) and 1 CFR part 51. Contact Fokker Services B.V., P.O. Box 231, 2150 AE Nieuw-Vennep, the Netherlands, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 26, 2005.
Ali Bahrami,
Manager, Transport Airplane Directorate, Aircraft Certification Service.

[FR Doc. 05-19829 Filed 10-5-05; 8:45 am]

BILLING CODE 4910-13-P